NATIONAL AERONAUTICS AND SPACE ADMINISTRATION

[Notice (03-133)]

NASA Earth Science Technology Subcommittee; Meeting

AGENCY: National Aeronautics and Space Administration (NASA).

ACTION: Notice of meeting.

SUMMARY: The National Aeronautics and Space Administration announces a meeting of the Earth Science Technology Subcommittee.

DATES: Wednesday, November 5, 2003, 8:30 a.m. to 5:30 p.m.

ADDRESSES: Holiday Inn on the Hill, 415 New Jersey Avenue, NW., Washington, DC 20001.

FOR FURTHER INFORMATION CONTACT: Mr. Granville Paules, National Aeronautics and Space Administration, Washington, DC 20546, 202/358-0706.

SUPPLEMENTARY INFORMATION: The meeting will be open to the public up to the seating capacity of the room. The agenda for the meeting is as follows:

—Welcome/Opening Comments

—Chairman's Introduction and Goals for Meeting

—Why Lasers in Earth Science?—Overview of Requirements

—Active Optical Measurements in Near-term Missions: ICESat (Ice Cover), Calipso (Clouds), Vegetation Canopy Lidar

—Laser Risk Reduction Program

—Code R Optical Sensing Technologies

—Current Earth Science Technology Office (ESTO) Investments

—Optical Sensing Technologies in Space Technology Alliance (STA)

—Optical Sensing Technologies in Industry

—Summary

It is imperative that the meeting be held on this date to accommodate the scheduling priorities of the key participants. Visitors will be requested to sign a visitor's register.

June W. Edwards,
Advisory Committee Management Officer, National Aeronautics and Space Administration.

[FR Doc. 03-26944 Filed 10-23-03; 8:45 am]

BILLING CODE 7510-01-P